DEPARTMENT OF HOMELAND SECURITY

Federal Emergency Management Agency

[Docket ID FEMA-2020-0002; Internal Agency Docket No. FEMA-B-2033]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 8, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2033, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Buena Vista County, Iowa and Incorporated Areas
Project: 16-07-2138S Preliminary Date: August 16, 2019
City of Lakeside | City Hall, 100 Ash Street, Lakeside, IA 50588.
City of Linn Grove | Community Center, 110 Weaver Street, Linn Grove, IA 51033.
City of Newell | City Hall, 207 East 2nd Street, Newell, IA 50568.
City of Sioux Rapids | City Hall, 100 Front Street, Sioux Rapids, IA 50585.
City of Storm Lake | City Hall, 620 Erie Street, Storm Lake, IA 50588.
City of Truesdale | City Hall, 120 Main Street, Truesdale, IA 50592.
Unincorporated Areas of Buena Vista County | Buena Vista Courthouse, 215 East 5th Street, Storm Lake, IA 50588.
Dubuque County, Iowa and Incorporated Areas
Project: 16-07-2220S Preliminary Date: August 27, 2018
City of Bernard | City Hall, 549 Leffler Street, Bernard, IA 52032.
City of Farley | City Hall, 114 First Street North, Farley, IA 52046.
Muskegon County, Michigan (All Jurisdictions)
Project: 13-05-4248S Preliminary Date: September 30, 2019
Charter Township of Fruitport | Charter Township Hall, 5865 Airline Road, Fruitport, MI 49415.
Charter Township of Muskegon | Charter Township Hall, 1990 East Apple Avenue, Muskegon, MI 49442.
City of Montague | City Hall, 8778 Ferry Street, Montague, MI 49437.
City of Muskegon | City Hall, 933 Terrace Street, Muskegon, MI 49440.
City of Muskegon Heights | City Hall, 2724 Peck Street, Muskegon Heights, MI 49444.
City of North Muskegon | City Hall, 1502 Ruddiman Drive, North Muskegon, MI 49445.
City of Norton Shores | City Hall, 4814 Henry Street, Norton Shores, MI 49441.
City of Whitehall | City Hall, 405 East Colby Street, Whitehall, MI 49461.
Township of Fruitland | Fruitland Township Hall, 4545 Nestrom Road, Whitehall, MI 49461.
Township of Laketon | Laketon Township Hall, 2735 West Giles Road, North Muskegon, MI 49445.
Township of Montague | Township Hall, 8915 Whitbeck Road, Montague, MI 49437.
Township of Whitehall | Township Hall, 7644 Durham Road, Whitehall, MI 49461.
Township of White River | White River Township Hall, 7386 Post Road, Montague, MI 49437.
Village of Fruitport | Village Hall, 45 North 2nd Avenue, Fruitport, MI 49415.
Walworth County, Wisconsin and Incorporated Areas
Project: 12-05-2816S Preliminary Date: October 24, 2019
City of Elkhorn | City Hall, 9 South Broad Street, Elkhorn, WI 53121.
City of Lake Geneva | City Hall, 626 Geneva Street, Lake Geneva, WI 53147.
Unincorporated Areas of Walworth County | Walworth County Government Center, 100 West Walworth Street, Elkhorn, WI 53121.
Village of Bloomfield | Bloomfield Municipal Center, N1100 Town Hall Road, Pell Lake, WI 53157.
Village of East Troy | Village Hall, 2015 Energy Drive, East Troy, WI 53120.
Village of Genoa City | Village Hall, 715 Walworth Street, Genoa City, WI 53128.
Village of Mukwonago | Village Hall, 440 River Crest Court, Mukwonago, WI 53149.

[FR Doc. 2020-12488 Filed 6-8-20; 8:45 am]

BILLING CODE 9110-12-P